SMALL BUSINESS ADMINISTRATION

[License No. 02/02-0664]

Medley SBIC, L.P.; Notice Seeking Exemption Under Section 312 of the Small Business Investment Act, Conflicts of Interest

Notice is hereby given that Medley SBIC, L.P., 280 Park Avenue, New York, NY 10017, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Medley SBIC, L.P. proposes to sell its debt security financing of The Plastics Group, Inc., 7409 S. Quincy Street, Willowbrook, IL 60527 (“TPG”).

The sale is brought within the purview of § 107.730(a) of the Regulations as the purchaser, Medley Capital Corporation, is an Associate of Medley SBIC, L.P. and an investor in TPG therefore this transaction requires prior SBA approval.

Notice is hereby given that any interested person may submit written comments on the transaction, within fifteen days of the date of this publication, to the Associate Administrator for Investment, U.S. Small Business Administration, 409 Third Street SW, Washington, DC 20416.

Dated: May 17, 2018.
A. Joseph Shepard,
Associate Administrator, Office of Investment and Innovation.

[FR Doc. 2018-12038 Filed 6-4-18; 8:45 am]

BILLING CODE 8025-01-P